DEPARTMENT OF LABOR

Office of the Secretary

Submission for OMB Review: Comment Request

April 5, 2006.

The Department of Labor (DOL) has submitted the following public information collection request (ICR) to the Office of Management and Budget (OMB) for review and approval in accordance with the Paperwork Reduction Act of 1995 (Pub. L. 104-13, 44 U.S.C. chapter 35). A copy of this ICR, with applicable supporting documentation, may be obtained by contacting Darrin King on 202-693-4129 (this is not a toll-free number) or e-mail: king.darrin@dol.gov.

Comments should be sent to Office of Information and Regulatory Affairs, Attn: OMB Desk Officer for the Office of Disability Employment Policy, Office of Management and Budget, Room 10235, Washington, DC 20503, 202-395-7316 (this is not a toll-free number), within 30 days from the date of this publication in the Federal Register.

The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Agency: Office of Disability Employment Policy (ODEP).

Type of Review: Revision of currently approved collection.

Title: Employment Assistance and Recruiting Network (EARN) Employer and Provider Enrollment Form, and Surveys.

OMB Number: 1230-0003.

Frequency: On occasion.

Type of Response: Reporting.

Affected Public: Business or other for-profit; Not-for-profit institutions; Federal Government; and State, local, or tribal government.

Number of Respondents: 1,669.

Form | Estimated number of annual responses | Average response time (hours) | Estimated annual burden hours
Provider Enrollment Form (EARN-1) | 1,473 | 0.25 | 368
Employer Enrollment Form (EARN-2) | 196 | 0.25 | 49
Employer Survey (EARN-3) | 40 | 0.17 | 7
Provider Survey (EARN-4) | 79 | 0.17 | 13
Total | 1,788 |  | 437

Total Annualized capital/startup costs: $0.

Total Annual Costs (operating/maintaining systems or purchasing services): $0.

Description: The Employer Assistance & Recruiting Network (EARN) is a nationwide service designed to provide employers with a technical, educational, and informational resource to simplify and encourage the recruiting and hiring of qualified workers. Historically, disability programs required employers to do much of the work in the finding and hiring of people with disabilities. ODEP designed EARN to alleviate these barriers and do much of the work for the employer. EARN's recruiting service links employers with employment service providers who refer candidates with disabilities.

Ira L. Mills,
Departmental Clearance Officer.

[FR Doc. E6-5270 Filed 4-10-06; 8:45 am]

BILLING CODE 4510-FK-P